DEPARTMENT OF DEFENSE

Department of the Army

[Docket ID: USA-2021-HQ-0008]

Submission for OMB Review; Comment Request

AGENCY: Department of the Army, Department of Defense (DoD).

ACTION: 30-Day information collection notice.

SUMMARY: The Department of Defense has submitted to OMB for clearance the following proposal for collection of information under the provisions of the Paperwork Reduction Act.

DATES: Consideration will be given to all comments received by November 15, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION:

Title; Associated Form; and OMB Number: DoD Automated Biometric Identification System (ABIS); OMB Control Number 0702-0127.

Type of Request: Reinstatement.

Number of Respondents: 1,400,000.

Responses per Respondent: 1.

Annual Responses: 1,400,000.

Average Burden per Response: 7 minutes.

Annual Burden Hours: 163,333.33.

Needs and Uses: The DoD Automated Biometric Identification System (ABIS) is an authoritative biometrics data repository that processes, matches, and stores biometric identity information data, collected by global U.S. forces, during the course of military operations. The information processed by DoD ABIS (biometric, biographic, behavioral, and contextual data) is collected by DoD military personnel worldwide using hand-held biometric collection devices across the full range of military operations for DoD warfighting, intelligence, law enforcement, security, force protection, base access, homeland defense, counterterrorism, business enterprise purposes as well as in information environment mission areas. Biometric data may also be collected for use in field identification and recovery of persons, or their physical remains, who have been captured, detained, missing, prisoners of war, or personnel recovered from hostile control. The information collected and processed by DoD ABIS is shared, accessed, and leveraged by DoD partners, U.S. Government inter-agency agency and departmental stakeholders, and approved multi-national partners for intelligence, counterterrorism, military force protection, national security, and law enforcement purposes.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: October 8, 2021.
Kayyonne T. Marston,
Alternate OSD Federal Register Liaison Officer, Department of Defense.

[FR Doc. 2021-22323 Filed 10-13-21; 8:45 am]

BILLING CODE 5001-06-P